DEPARTMENT OF THE INTERIOR

Fish and Wildlife Service

[FWS-R8-R-2015-N025]; [FXRS12610800000-156-FF08R00000]

Butte Sink, Willow Creek-Lurline, and North Central Valley Wildlife Management Areas, Tehama, Butte, Glenn, Colusa, Yuba, Sacramento, Sutter, Placer, Yolo, Solano, Contra Costa, and San Joaquin Counties, CA

AGENCY: Fish and Wildlife Service, Interior.

ACTION: Notice of availability; request for comments: draft comprehensive conservation plan/environmental assessment.

SUMMARY: We, the U.S. Fish and Wildlife Service (Service), announce the availability of a Draft Comprehensive Conservation Plan (CCP) and Environmental Assessment (EA) for the Butte Sink, Willow Creek-Lurline, and North Central Valley Wildlife Management Areas (WMAs) for public review and comment. The CCP/EA, prepared under the National Wildlife Refuge System Improvement Act of 1997, and in accordance with the National Environmental Policy Act of 1969, describes how the Service proposes to manage the three WMAs for the next 15 years. Draft compatibility determinations for several existing and proposed public uses are also available for review and public comment with the Draft CCP/EA.

DATES: To ensure consideration, we must receive your written comments by September 9, 2015.

ADDRESSES: Send your comments, requests for more information, or requests to be added to the mailing list by any of the following methods.

Email: fw8plancomments@fws.gov. Include “WMAs CCP” in the subject line of the message.

Fax: Attn: WMAs CCP, (916) 414-6497.

U.S. Mail: Pacific Southwest Region, Natural Resources-Planning, U.S. Fish and Wildlife Service, 2800 Cottage Way, Sacramento, CA 95825-1846.

In-Person Drop-off: You may drop off comments during regular business hours at the above address.

FOR FURTHER INFORMATION CONTACT: Sandy Osborn, Planning Team Leader, by email at fw8plancomments@fws.gov, or Dan Frisk, Sacramento National Wildlife Refuge Complex Project Leader, by phone at (530) 934-2801. Further information may also be found at http://www.fws.gov/refuge/Sacramento/.

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation.

Background

We initiated the CCP/EA for the Butte Sink, Willow Creek-Lurline, and North Central Valley WMAs, in Tehama, Butte, Glenn, Colusa, Yuba, Sutter, Placer, Yolo, Solano, Contra Costa, and San Joaquin Counties in 2009. At that time and throughout the process, we requested, considered, and incorporated public scoping comments in numerous ways. Our public outreach included a Federal Register notice of intent published on November 30, 2009 (74 FR 62584), two planning updates, a CCP Web page (http://www.fws.gov/refuge/Sacramento/), and three public scoping meetings. The scoping comment period ended on January 15, 2010. Verbal comments were recorded at the public meetings, and written comments were submitted via letters and emails.

Butte Sink, Willow Creek-Lurline, and North Central Valley Wildlife Management Areas

This CCP includes the Butte Sink, Willow Creek-Lurline, and North Central Valley WMAs. The WMAs are part of the Sacramento National Wildlife Refuge Complex. The Butte Sink WMA was established in 1979 and currently consists of 733 acres of fee title lands and 34 conservation easements on approximately 10,236 acres of private wetlands. The acquisition objective for the Butte Sink WMA has been met. The Willow Creek-Lurline WMA was established in 1985 and currently consists of 85 conservation easements on approximately 5,859 acres of private wetlands; with an approved easement acquisition objective of 8,000 acres within Glenn and Colusa Counties. The North Central Valley WMA was established in 1991 and currently consists of approximately 2,929 acres of Service-owned lands and 28 conservation easements on approximately 14,740 acres of private wetlands, with an approved acquisition objective of 48,750 easement acres and 6,250 Service-owned acres within 11 counties.

The vast majority of wetlands in the Central Valley have been converted to agricultural, industrial, and urban development. The WMAs consist of intensively managed wetlands, and associated uplands and riparian habitats that support large concentrations of migratory birds and many other wetland-dependent species. Collectively, these lands play a significant role in supporting approximately 40 percent of Pacific Flyway wintering waterfowl populations.

Alternatives

The Draft CCP/EA identifies and evaluates three alternatives for managing Butte Sink, Willow Creek-Lurline, and North Central Valley WMAs for the next 15 years. The alternative that appears to best meet the WMAs' purposes is identified as the preferred alternative. The preferred alternative is identified based on the analysis presented in the Draft CCP/EA, which may be modified following the completion of the public comment period based on comments received from other agencies, Tribal governments, nongovernmental organizations, or individuals.

Alternative A

Under Alternative A (no action alternative), the Service would continue to manage the WMAs as we have in the recent past. Conservation easements would be used as a voluntary, cost-effective tool to protect habitat while maintaining private ownership and management. No additional acquisition would take place in the Butte Sink WMA. Up to 2,141 acres of wetland easements could be acquired from willing landowners to protect wetlands in the Willow Creek-Lurline WMA. Up to 34,043 acres of wetland easements could be acquired from willing landowners in North Central Valley WMA, excluding Sacramento County. Under Alternative A, there would be no agricultural easements in the WMAs. The Service could acquire up to 3,321 additional acres of Service-owned lands from willing landowners in the North Central Valley WMA. When appropriate, the Service would consult with affected counties prior to acquiring lands in fee-title (Service-owned lands).

Under all alternatives, on Llano Seco Unit and other appropriate Service-owned lands, we would provide visitors of all ages and abilities with quality wildlife-dependent recreation, and volunteer opportunities to enhance public appreciation, understanding, and enjoyment of fish, wildlife, habitats, and cultural resources.

Alternative B

Under Alternative B, wetland easement acquisition goals would remain the same as Alternative A. The only proposed change in wetland easement acquisition would take place in the North Central Valley WMA, where objectives would be modified to include Sacramento County. Under Alternative B, a voluntary agricultural easement program would also be added to the North Central Valley WMA to protect farmland that provides important migratory bird habitat and/or open space buffers to existing protected wetlands. Up to 30,700 acres of agricultural easements could be acquired from willing landowners in Butte, Colusa, Glenn, Sacramento, Sutter, and Yolo Counties. As with Alternative A, the Service could acquire up to 3,321 additional acres of Service-owned lands from willing landowners in the North Central Valley WMA.

Alternative C

Under Alternative C (preferred alternative), the wetland easement acquisition goals for the Butte Sink WMA and the Willow Creek-Lurline WMA would remain the same as Alternatives A and B. In Alternative C, the Service is proposing to reduce its existing North Central Valley WMA wetland easement acquisition objective from 34,043 acres to 15,000 acres. The Service is also proposing to limit wetland easement acquisition to Butte, Colusa, Glenn, Placer, Sutter, Yolo and Yuba Counties. In addition, the Service proposes to add an agricultural easement program to the North Central Valley WMA. Under this scenario, up to 19,043 acres (the difference between the existing North Central Valley WMA wetland easement acreage objective and the Alternative C North Central Valley WMA wetland easement acreage objective) of agricultural easements could be acquired from willing landowners to protect farmland in Butte, Colusa, Glenn, Sacramento, Sutter, and Yolo Counties. As with Alternatives A and B, the Service could acquire up to 3,321 additional acres of Service-owned lands from willing landowners in the North Central Valley WMA.

Public Meetings

The locations, dates, and times of public meetings will be listed in a planning update distributed to the project mailing list and posted on the refuge planning Web site at http://www.fws.gov/refuge/Sacramento/. For deadlines and instructions on requesting reasonable accommodations at the public meetings, please send your request to the email address or fax number in the ADDRESSES section.

Review and Comment

Copies of the Draft CCP/EA may be obtained by contacting to Sandy Osborn (see ADDRESSES). Copies of the Draft CCP/EA may be viewed at the same address and local libraries. The Draft CCP/EA will also be available for viewing and downloading online at http://www.fws.gov/refuge/Sacramento/.

Comments on the Draft CCP/EA should be addressed to Sandy Osborn (see ADDRESSES).

At the end of the review and comment period for this Draft CCP/EA, comments will be analyzed by the Service and addressed in the Final CCP/EA. Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2015-14655 Filed 6-12-15; 8:45 am]

BILLING CODE 4310-55-P